DEPARTMENT OF VETERANS AFFAIRS

[OMB Control No. 2900-0321]

Agency Information Collection (Appointment of Veterans Service Organization/or Individuals as Claimant's Representative) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before May 26, 2009.

ADDRESSES: Submit written comments on the collection of information through http://www.Regulations.gov or to VA's OMB Desk Officer, Office of Information and Regulatory Affairs, New Executive Office Building, Room 10235, Washington, DC 20503, (202) 395-7316. Please refer to “OMB Control No. 2900-0321” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-0321.”

SUPPLEMENTARY INFORMATION:

Titles: Appointment of Veterans Service Organization as Claimant's Representative, VA Form 21-22 and Appointment of Individual as Claimant's Representative, VA Form 21-22a.

OMB Control Number: 2900-0321.

Type of Review: Extension of a currently approved collection.

Abstract: Claimants complete VA Forms 21-22 and 21-22a to appoint a veterans service organization or an individual to assist in the preparation, representation, and prosecution of claims for VA benefits and to authorize VA to disclose any or all records to the appointed representative.

An agency may not conduct or sponsor, and a person is not required to respond to a collection of information unless it displays a currently valid OMB control number. The Federal Register Notice with a 60-day comment period soliciting comments on this collection of information was published on February 10, 2009, at pages 6696-6697.

Affected Public: Individuals or households.

Estimated Annual Burden:

a. VA Form 21-22—27,083 hours.

b. VA Form 21-22a—533 hours.

Estimated Average Burden per Respondent: 5 minutes.

Frequency of Response: One-time.

Estimated Number of Respondents:

a. VA Form 21-22—325,000.

b. VA Form 21-22a—6,400.

Dated: April 17, 2009.
By direction of the Secretary:
Denise McLamb,
Program Analyst, Enterprise Records Service.

[FR Doc. E9-9249 Filed 4-22-09; 8:45 am]

BILLING CODE A320-01-P